FEDERAL MARITIME COMMISSION

Sunshine Act Meeting

Agency Holding the Meeting: Federal Maritime Commission.

Time and Date: 10 a.m.—September 26, 2001.

Place: 800 North Capitol Street, NW., First Floor Hearing Room, Washington, DC.

Status: Open.

Matters to be Considered: Ocean Shipping Reform Act Impact Study; Docket No. 01-01—The Impact of the Ocean Shipping Reform Act of 1998.

Contact Person for More Information: Bryant L. VanBrakle, Secretary, (202) 523-5725.

Bryant L. VanBrakle,
Secretary.

[FR Doc. 01-23623 Filed 9-18-01; 12:15 pm]

BILLING CODE 6730-01-M